DEPARTMENT OF THE INTERIOR

Draft General Management Plan/Environmental Impact Statement (GMP/EIS), Crater Lake National Park, Oregon

AGENCY: National Park Service.

ACTION: Notice of intent to prepare an environmental impact statement.

SUMMARY: Under the provisions of the National Environmental Policy Act, the National Park Service is preparing an environmental impact statement for the general management plan for Crater Lake National park.

The plan is needed to guide the protection and preservation of the natural and cultural environments, considering a variety of interpretive and recreational visitor experiences that enhance the enjoyment and understanding of the park resources.

The effort will result in a comprehensive general management plan that encompasses preservation of natural and cultural resources, visitor use and interpretation, roads, and facilities. In cooperation with local and national interests, attention will also be given to resources and resource issues shared by the park and its neighbors that affect the integrity of park resources.

Alternatives to be considered include “no action” and alternatives addressing issues identified.

Major issues include management of resources across jurisdictional boundaries, levels and appropriateness of access to resources within the park, accommodation of winter lake-viewing, and the adequacy of existing facilities to accommodate modern demands including administration and support functions.

Scoping is the term given to the process by which the scope of issues to be addressed in the GMP/EIS is identified. Representatives of Federal, State and local agencies, American Indian tribes, private organizations and individuals from the general public who may be interested in or affected by the proposed GMP/EIS are invited to participate in the scoping process by responding to this Notice with written comments.

All comments received will become part of the public record and copies of comments, including any names and home addresses of respondents, may be released for public inspection. Individual respondents may request that their home addresses be withheld from the public record, which will be honored to the extent allowable by law. Requests to withhold names and/or addresses must be stated prominently at the beginning of the comments. Anonymous comments will not be considered. Submissions from organizations or businesses, and from individuals identifying themselves as representatives or officials of organizations or businesses, will be made available for public inspection in their entirety.

Because the responsibility for approving the GMP/EIS has been delegated to the National Park Service, the EIS is a “delegated” EIS. The responsible official is John J. Reynolds, Regional Director, Pacific West Region, National Park Service.

DATES: To ensure that all significant issues pertaining to the plan are identified, scoping comments will be accepted at the following locations until June 30, 2001.

ADDRESSES: A scoping brochure has been prepared, that details the issues identified to date. Copies of that and other information regarding the General Management Plan and Environmental Impact Statement can be obtained from the Superintendent, Crater Lake National Park, P.O. Box 7, Hwy 62, Crater Lake, OR 97604, telephone (541) 594-2211. Information is also available at ww.nps.gov/planning/crla. Written comments may also be sent to CRLA_GMP@nps.gov. Written comments on the scope of the issues and alternatives to be analyzed in the GMP/EIS should be received no later than May 31, 2001.

FOR FURTHER INFORMATION CONTACT: Superintendent, Crater Lake National Park, at (541) 594-2211.

Dated: May 1, 2001.
Charles V. Lundy,
Superintendent, Crater Lake National Park.

[FR Doc. 01-13229 Filed 5-24-01; 8:45 am]

BILLING CODE 4310-70-P